DEPARTMENT OF TRANSPORTATION

Office of the Secretary

49 CFR Part 1

[Docket OST-1999-6189]

Organization and Delegation of Powers and Duties; Delegations to the Commandant, United States Coast Guard

AGENCY: Office of the Secretary, DOT.

ACTION: Final rule.

SUMMARY: The Secretary of Transportation is publishing delegations to the Commandant, United States Coast Guard, of authorities governing vessels, seamen, and maritime liability. These authorities are codified in Title 46 United States Code, Subtitles II and III. In addition, this change corrects an erroneous reference in the authority 1168 citation for the regulations or organization and delegation of power and duties in the Code of Federal Regulations.

EFFECTIVE DATE: July 24, 2001.

FOR FURTHER INFORMATION CONTACT: Karen Adams, Office of Standards Evaluation and Development (G-MSR-2), (202) 267-6819, U.S. Coast Guard, 2100 Second Street SW., Washington D.C. 20593-0001.

SUPPLEMENTARY INFORMATION: The Secretary of Transportation, as Secretary of the Department in which the Coast Guard is operating, is vested with various authorities governing vessels, seamen (under subtitle II), and maritime liability (under subtitle III) of title 46, United States Code. Section 2104 of title 46 explicitly authorizes the Secretary to delegate all subtitle II authorities to officers, employees, and members of the Coast Guard. In addition, the Coast Guard is primarily responsible for performing many of the Secretary's functions regarding maritime liabilities in subtitle III.

The authorities and functions listed in this rule have traditionally been performed by the Coast Guard, which has the personnel, facilities, expertise, and experience to carry out these traditional functions for the Secretary. The current regulation lists new delegations in title 49, Code of Federal Regulations, of these traditional functions of the U.S. Coast Guard, which had been inadvertently omitted from previous delegations listed in § 1.46. Subparagraphs (1), (2), (4)-(7), and (10) in section 1.46(uu), as well as section 1.46(vv), although limited by subparagraphs (vv)(1)-(2), represent new delegations of such traditional Coast Guard functions. Subparagraphs (3), (8), and (9) in section 1.46(uu) are merely reformatted versions of previous delegations. Delegations of these authorities and functions were generally listed in 49 CFR 1.46 in the order issued, making it difficult to locate a particular delegation without scanning the entire list. The current change publishes all subtitle II and III delegations in a comprehensive form by U.S. Code designation, and specifically identifies any reserved or excepted authorities. Section 1.46 paragraphs rendered unnecessary have been reserved for future use.

With respect to Title II delegations affecting vessels and seamen, established in § 1.46(uu): In subparagraph (1), the Secretary delegates his authority found in Part A (Chapters 21 and 23, codified at 46 U.S.C. 2101-2115 and 2301-2306) dealing with various authority issues with respect to seamen and the operation of vessels, generally. In subparagraph (2), the Secretary delegates his authority found in Part B (Chapters 31-47, codified at 46 U.S.C. 3101-3103; 3201-3205; 3301-3318; 3501-3506; 3701-3719; 3901-3902; 4101-4106; 4301-4311; 4501-4508; and 4701-4705) dealing with regulation of vessels, management of vessels, inspection of vessels, carriage of passengers, carriage of liquid bulk dangerous cargo, carriage of animals, uninspected vessels, recreational vessels, uninspected commercial fishing industry vessels, and abandoned barges, respectively. In subparagraph (3), the Secretary delegates his authority found in Part C (Chapter 51, codified at 46 U.S.C. 5101-5116) dealing with safe load lines for vessels. In subparagraph (4), the Secretary delegates his authority found in Part D (Chapters 61-63, codified at 46 U.S.C. 6101-6104 and 6301-6308) dealing with reporting and investigating marine casualties, respectively. In subparagraph (5), the Secretary delegates his authority found in Part E (Chapters 61-77, codified at 46 U.S.C. 7101-7114; 7301-7319; 7501-7506 and 7701-7705) dealing with licenses & certificates of registry, merchant mariner documents, issuing procedures, as well as suspension and revocation procedures, respectively. In subparagraph (6), the Secretary delegates his authority found in Part F (Chapters 81-93, codified at 46 U.S.C. 8101-8105; 8301-8304; 8501-8503; 8701-8704; 8901-8906; 9101-9102; and 9301-9308) dealing with general authority issues, masters and officers, state and federal pilots, unlicensed personnel (including tankermen and aliens), small vessel manning standards, tank vessel manning standards, and Great Lakes pilotage, respectively. In subparagraph (7), the Secretary delegates his authority found in Part G (Chapters 101-115, codified at 46 U.S.C. 10101-10104; 10301-10321; 10501-10509; 10601-10603; 10701-10711; 10901-10908; 11101-11112; 11201-11204; 11301-11303; and 11501-11507) dealing with reports and reporting requirements, foreign and intercoastal voyages, coastwise voyages, personal effects of deceased seamen, unseaworthiness proceedings, protection and relief for seamen, merchant mariner benefits, official logbooks, as well as offenses and penalties, respectively. In subparagraph (8), the Secretary delegates his authority found in Part H (Chapters 121-125, codified at 46 U.S.C. 12101-12124; 12301-12309; and 12501-12507) dealing with documentation of vessels, numbering of undocumented vessels, and the Vessel Identification System (VIS), respectively. In subparagraph (9), the Secretary delegates his authority found in Part I (Chapter 131, codified at 46 U.S.C. 13101-13110) dealing with interaction with state recreational boating safety programs. In subparagraph (10), the Secretary delegates his authority found in Part J (Chapters 141-147, codified at 46 U.S.C. 14101-14104; 14301-14307; 14501-14504; 14511-14513; 14521-14522; and 14701-14702) dealing with the measurement of vessels, including conventions in measurement, regulatory measurement (general, formal, and simplified), as well as applicable penalties, respectively.

With respect to Title III delegations affecting maritime liability, established in § 1.46(vv), the Secretary delegates all his authority found in Subtitle III (Chapters 301 and 313, codified at 46 U.S.C. 30101 and 31301-31343) with the exception of the two narrow instances, which are noted. In subparagraph (1), the Secretary retains exclusive authority with respect to his statutory authority under 46 U.S.C. 31308 to foreclose a lien as a mortgagee where the mortgage is covered by Title XI of the Merchant Marine Act of 1936, codified at 46 U.S.C. 1271-1280a. In subparagraph (2), the Secretary retains exclusive authority with respect to his statutory authority under 46 U.S.C. 31329(c) and (d) pertaining to actions with respect to mortgagees and other purchasers of vessels by court order. Finally, the current authority citation for Part 1 of Title 49, Code of Federal Regulations includes a typographical error referring to “49 U.S.C. 2104(a),” which should have read “49 U.S.C. 322.” This rule corrects that error.

This rule will enhance the public's understanding of the authorities delegated to the Commandant. It does not substantially change the organization or authorities of the Department of Transportation or the Coast Guard.

We publish this rule as a final rule, effective on the date of publication. Because these amendments relate to departmental management, organization, procedure, and practice, notice and comment are unnecessary under 5 U.S.C. 553(b). Further, because this rule does not substantially change the authorities or functions of the Department or the Coast Guard, the Secretary finds good cause under 5 U.S.C. 553(d)(3) for the final rule to be effective on the date of publication in the Federal Register.

List of Subjects in 49 CFR Part 1

Authority delegations (Government agencies), Organization and functions (Government agencies).

For the reasons discussed in the preamble, the Office of the Secretary amends 49 CFR part 1 as follows:

PART 1—ORGANIZATION AND DELEGATION OF POWERS AND DUTIES

1. Revise the authority citation for part 1 to read as follows:

Authority: 49 U.S.C. 322; Public Law 101-552, 104 Stat. 2744; 28 U.S.C. 2672; 31 U.S.C. 3711(a)(2); 46 U.S.C. 2104(a).

2. In § 1.46, remove and reserve paragraphs (n)(1), (n)(6), (ss), (zz), (ccc), (ddd), (eee), (fff), (ggg), and (mmm) and revise paragraphs (uu) and (vv) to read as follows:

§ 1.46 Delegations to Commandant of the Coast Guard.

* * * * *

(uu) Carry out the functions and exercise the authorities vested in the Secretary by subtitle II of Title 46, United States Code, “Vessels and Seaman” as amended through Public Law 105-394, 112 Stat. 3627, as follows:

(1) Part A, General Provisions, Section 2101 to end, without exception;

(2) Part B, Inspection and Regulations, Section 3101 to end, except the authority under Section 3316(a) to appoint Government representatives to the executive committee of the American Bureau of Shipping; which is retained by the Secretary; and the authority under Section 4508 to establish, and appoint members to, the Commercial Fishing Industry Vessel Advisory Committee. Note that the authority under Section 3101 to suspend provisions of this part is vested in the President and is not redelegated;

(3) Part C, Load Lines of Vessels, Section 5101 to end, without exception;

(4) Part D, Marine Casualties, Section 6101 to end, without exception;

(5) Part E, Merchant Seaman Licenses, Certificates, and Documents, Part 7101 to end, without exception;

(6) Part F, Manning of Vessels, Section 8101 to end, except the authority to require federal pilots on the Saint Lawrence Seaway, which under Section 8503(c) may only be delegated to the Saint Lawrence Seaway Development Corporation, and the authority under Section 9307 to establish, and appoint members to, a Great Lakes Pilotage Advisory Committee, which is retained by the Secretary;

(7) Part G, Merchant Seaman Protection and Relief, Section 10101 to end, without exception;

(8) Part H, Identification of Vessels, Section 12101 to end, except that administration of Section 12102(c) with respect to fishing vessels 100 feet or greater in registered length has been delegated to the Maritime Administrator in accordance with the American Fisheries Act, Public Law 105-277, 112 Stat. 268, Section 203(c);

(9) Part I, State Boating Safety Programs, Section 13101 to end, except the authority under 46 U.S.C. 13110 to appoint members to the National Boating Safety Advisory Council, which is retained by the Secretary; and

(10) Part J, Measurement of Vessels, Section 14101 to end, without exception.

(vv) Carry out the functions and exercise the authorities vested in the Secretary by 46 United States Code Subtitle III, “Maritime Liability” as amended through Public Law 105-394, except the following authorities:

(1) Section 31308, which authorizes the Secretary to foreclose on certain liens when the Secretary of Commerce or Transportation is a mortgagee; and

(2) Sections 31329(c) and (d), which authorize the Secretary to take certain actions with respect to mortgagees and other purchasers of vessels by court order.

* * * * *

Issued in Washington, DC, this 12th day of July, 2001.
Norman Y. Mineta,
Secretary of Transportation.

[FR Doc. 01-18304 Filed 7-23-01; 8:45 am]

BILLING CODE 4910-62-P